FEDERAL MARITIME COMMISSION

Ocean Transportation Intermediary License; Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants

Sea-Big Express, Inc., 24404 S. Vermont Avenue, #305, Harbor City, CA 90710, Officer: Jung Hyun Lee, President (Qualifying Individual)

Pibe, Inc., 6909 NW 52nd Street, Miami, FL 33166, Officers: Luis Rocha, General Manager (Qualifying Individual), Edward Rocha, Vice President

HJM Int'l Corp., Cargo Bldg. 80, Suite 204, Jamaica, NY 11430, Officer: Henry Mandil, President (Qualifying Individual)

Best Raider Cargo Express, Ltd., 147-11 182nd Street, Jamaica, NY 11434, Officers: Danny J. Chen, President (Qualifying Individual), Raymond Chen, Vice President

On My Way, Inc., 8510 NW. 72nd Street, Miami, FL 33166, Officers: Maria Sardi (Gaby), Vice President (Qualifying Individual), Luis Aldaya, President

Inter-Cargo Systems LLC, 5200 Mitchelldale, Suite D-8 Houston, TX 77092, Officers: Richard Kershaw, Vice President (Qualifying Individual), Khurram Iqbal, President

Non-Vessel Operating Common Carrier and Ocean Freight Forwarder Transportation Intermediary Applicants

Direct Shipping Line 9550 Flair Dr., #5031, El Monte, CA 91731, Officer: Phuong Lam, President (Qualifying Individual),

Benefitor Logistics Inc., 7323 Parkwood Court, #302, Falls Church, VA 22042, Officers: Min Liu, Shipping Manager (Qualifying Individual), Kong Ng, Director

Quisqueya Lines, Inc., 3780 N.W. South River Drive, Miami, FL 33142, Officers: Milagros Abreu, Vice President (Qualifying Individual), Jose Abreu, President

Access Freight Forwarders Inc., 8220 N.W. 30th Terrace, Miami, FL 33122, Officers: Marcelo V. Leal, President, Isabella Riddell, Secretary (Qualifying Individuals)

Interconn, Inc. 15565 Northland Drive, Suite 708W, Southfield, MI 48075, Officers: Anthony Heath, President/CEO (Qualifying Individual), Aaron S. Heath, Vice President

Ocean Freight Forwarder—Ocean Transportation Intermediary Applicants

Grizzard Customs Brokers, Inc., 4158 Old Dixie Road, Hapeville, GA 30354, Officer: Michael R. Grizzard, President (Qualifying Individual)

Hub Air Intl. Ltd., 140 Eastern Avenue, Chelsea, MA 02150, Officer: Barry F. Curran, President (Qualifying Individual)

Armstrong Export, Inc., 2001 N.W. 93rd Avenue, Miami, FL 33172, Officers: Lewis R. Armstrong, President (Qualifying Individual), Evelyn S. Armstrong, Secretary

Dated: October 19, 2001.
Bryant L. VanBrakle,
Secretary.

[FR Doc. 01-26802 Filed 10-23-01; 8:45 am]

BILLING CODE 6730-01-P